DEPARTMENT OF THE INTERIOR

[LLCAD08000-L14300000-ET0000; CACA 51737]

Public Land Order No. 7801; Withdrawal of Public Lands for Protection of Proposed Expansion of Twentynine Palms; CA

AGENCY: Bureau of Land Management, Interior.

ACTION: Public land order.

SUMMARY: This order withdraws approximately 507 acres of reserved Federal mineral estate from the United States mining laws including the mineral and geothermal leasing and mineral materials laws, and 331,786 acres of public lands from all forms of appropriation under the public land laws, including the United States mining, mineral and geothermal, and mineral materials laws for a period of 5 years. The withdrawal preserves the status quo of the lands and mineral estate included in the proposed training land acquisition/airspace establishment project of the United States Marine Corps Air Ground Combat Center, Twentynine Palms, California, pending the processing of an application for withdrawal for military purposes under the Engle Act. This order also includes 43,950 acres of non-Federal lands located within the boundaries of the withdrawal areas, and in the event that they return to Federal ownership in the future, the lands would be subject to the terms and conditions of this withdrawal.

DATES: Effective Date: September 11, 2012.

FOR FURTHER INFORMATION CONTACT: Ms. Elizabeth Easley, Realty Specialist, 916978-4673. Persons who use a telecommunications device for the deaf (TDD) may call the Federal Information Relay Service (FIRS) at 1-800-877-8339 to contact the above individual. The FIRS is available 24 hours a day, 7 days a week, to leave a message or question with the above individual. You will receive a reply during normal business hours.

Order

By virtue of the authority vested in the Secretary of the Interior by Section 204 of the Federal Land Policy and Management Act of 1976; 43 U.S.C. 1714, it is ordered as follows:

1. Subject to valid existing rights, the following described lands are hereby withdrawn from all forms of appropriation under the public land laws including the United States mining laws and the mineral and geothermal leasing laws, and the mineral material laws, to protect the status quo of the lands pending action on an application for a legislative withdrawal for military purposes under the Engle Act:

a. Federal surface and mineral estate:

San Bernardino Meridian

Western Acquisition Area

T. 4 N., R. 2 E.,

Sec. 1.

T. 5 N., R. 2 E.,

Secs. 1 and 2;

Secs. 11 to 14, inclusive, and 23 to 26, inclusive;

Sec. 35.

T. 6 N., R. 2 E.,

Sec. 13;

Secs. 23 to 26, inclusive;

Sec. 35.

T. 4 N., R. 3 E.,

Sec. 1, lots 1 and 2 of NE¼, lots 1 and 2 of NW¼, NW¼,SW¼, and SE¼,;

Sec. 2;

Sec. 3, E½ of lot 1 of NE¼, lot 2 of NE¼, lot 2 of NW¼, and S½S½;

Sec. 4, lots 1 and 2 of NE¼, lots 1 and 2 of NW¼, SW¼, and S½SE¼,;

Secs 5 and 6;

Sec. 7, E½;

Secs. 8 and 9;

Sec. 10, N½N½;

Sec. 12, N½ and SE¼,.

T. 5 N., R. 3 E., partly unsurveyed.

Secs. 2 to 35, inclusive;

Sec. 36, SW¼,.

T. 4 N., R. 4 E.,

Secs. 1 to 15, inclusive;

Sec. 17;

Sec. 18, N½;

Sec. 20, N½;

Secs. 21 to 27, inclusive;

Sec. 28, N½.

T. 5 N., R. 4 E., partly unsurveyed.

Secs. 2 to 11, inclusive;

Sec. 12, all except for Mineral Survey No. 6336;

Sec. 13, E½, E½E½NW¼, E½SW¼, and E½W½SW¼;

Secs. 14, 15, and 16;

Sec. 17, NW¼ and S½;

Secs. 18 to 24, inclusive;

Sec. 25, N½, SW¼, and W½SE¼,;

Sec. 26, lots 1 to 4, inclusive, W½, and SE¼,;

Secs. 27 to 36, inclusive.

T. 6 N., R. 4 E.,

Secs. 1 to 15, inclusive, and 17 to 24, inclusive;

Sec. 26;

Secs. 27 and 28, all except for Mineral Survey Nos. 3000 and 3980;

Secs. 29 to 35, inclusive;

Ssec. 36, N½ and SW¼,.

T. 3 N., R. 5 E.,

Secs. 1, 2, and 3;

Sec. 4, lots 1 to 12, inclusive, and E½NW¼,NE¼,SW¼,;

Secs. 5 and 6;

Sec. 9, lots 1 and 2;

Sec. 10, lots 1 to 7, inclusive;

Sec. 11;

Sec. 12, lots 1 to 12, inclusive.

T. 4 N., R. 5 E., partly unsurveyed.

Secs. 2 to 35, inclusive.

T. 5 N., R. 5 E.,

Secs. 4 and 5;

Sec. 6, lots 1 to 10, inclusive, SE¼,NW¼, E½SW¼, N½SE¼, and SW¼,SE¼,;

Sec. 7, lots 1 to 4, inclusive, lots 6 and 7, S½NE¼, SE¼,NW¼, E½SW¼ and SE¼;

Sec. 8;

Secs. 14, 15, 18, 19, 20, 22, 23, 26, 27, 28, 30, 31, 32, 34, and 35.

T. 6 N., R. 5 E.,

Secs. 17 to 20, inclusive, and 29 to 32, inclusive.

Southern Acquisition Area

T. 2 N., R. 9 E.,

Sec. 25;

Sec. 26, all except for N½NW¼SW¼SW¼;

Sec. 27, E½ except for W½SE¼SE¼SE¼;

Sec. 34, S½NE¼NE¼NE¼, SE¼NE¼NE¼, W½NE¼NE¼, NW¼NE¼, and E½NW¼;

Sec. 35, N½ except for N½NE¼NE¼NE¼ and S½SW¼NW¼NE¼.

T. 2 N., R. 10 E.,

Secs. 2 to 11, inclusive;

Sec. 14, that portion lying north and west of the boundary of the Cleghorn Lakes Wilderness Area;

Sec. 15 and 17 to 22, inclusive;

Sec. 23, that portion lying west of the boundary of the Cleghorn Lakes Wilderness Area;

Sec. 26, that portion lying west and south of the boundary of the Cleghorn Lakes Wilderness Area;

Secs. 27 to 35, inclusive.

Eastern Acquisition Area

T. 4 N., R. 11 E.,

Secs. 1, 2, 11, 12, and 14.

T. 5 N., R. 11 E.,

Sec. 35.

T. 3 N., R. 12 E.,

Secs. 1, 2, and 3;

Secs. 10 to 15, inclusive;

Secs. 22, 23, and 24;

Sec. 25, that portion lying west of the boundary of the Sheephole Valley Wilderness Area;

Secs. 26 and 27;

Sec. 34, that portion lying north and east of the boundary of Cleghorn Lakes Wilderness Area;

Sec. 35.

T. 4 N., R. 12 E.,

Secs. 1 to 8, inclusive;

Secs. 10, 11, 12, 14, and 15;

Sec. 18, all except for Mineral Survey No. 5802;

Sec. 19, N½ except for Mineral Survey Nos. 5802 and 5805;

Sec. 21, E½;

Secs. 23 to 27, inclusive;

Sec. 28, E½;

Secs. 34 and 35.

T. 5 N., R. 12 E.,

Secs. 19 and 20, all except the lands conveyed by Patent No. 1000678;

Secs. 21 to 27, inclusive;

Sec. 28, N½ and SW¼;

Secs, 29 and 30, all except the lands conveyed by Patent No. 1000678;

Secs. 31 to 35, inclusive.

T. 3 N., R. 13 E.,

Sec. 4, that portion lying west of the Sheephole Valley Wilderness Area;

Secs. 5 and 7;

Sec. 8, 17, 18, and 19, those portions lying west of the Sheephole Valley Wilderness Area.

T. 4 N., R. 13 E.,

Secs. 1 to 4, inclusive, 6 to 15, inclusive, and 17 to 22, inclusive;

Secs. 23, 24, and 27, those portions lying northwesterly of the Sheephole Valley Wilderness Area;

Secs. 28 to 32, inclusive;

Secs. 33 and 34, that portion lying northwesterly of the Sheephole Valley Wilderness Area.

T. 5 N., R. 13 E.,

Secs. 19 and 20;

Sec. 22, W½;

Secs. 23 to 28, inclusive, and 30, 31, 32, 34, and 35.

T. 3 N., R. 14 E.,

Secs. 1 and 2;

Secs. 3, 4, and 10, those portions lying east of the Sheephole Valley Wilderness Area;

Secs. 11, 12, and 13;

Secs. 14 and 15, those portions lying east of the Sheephole Valley Wilderness Area.

T. 4 N., R. 14 E.,

Secs. 6, 7, 8, 10, 11, 12, 14, 15, 17, and 18;

Sec. 20, that portion lying northeasterly of the Sheephole Valley Wilderness Area;

Secs. 21 to 24, inclusive;

Sec. 25, that portion lying northwesterly of the Cadiz Dunes Wilderness Area;

Secs. 26, 27, and 28;

Sec. 29, that portion lying northeasterly of the Sheephole Valley Wilderness Area;

Secs. 33, 34, and 35.

T. 5 N., R. 14 E.,

Secs. 30 and 31.

T. 4 N, R. 15 E.,

Secs. 1 to 4, inclusive;

Sec. 5, all except for railroad rights-of-way;

Secs. 6, 7, and 8;

Sec. 9, all except for railroad rights-of-way;

Secs. 10 to 15, inclusive, and 18 to 21, inclusive;

Secs. 22 to 25, those portions lying northwesterly or northeasterly of the Cadiz Dunes Wilderness Area, inclusive;

Secs. 28 to 30, those portions lying northwesterly or northeasterly of the Cadiz Dunes Wilderness Area, inclusive;

Sec. 32, that portion lying northeasterly of the Cadiz Dunes Wilderness Area.

T. 5 N., R. 15 E.,

Secs. 10 to 15, inclusive, and 19 to 35, inclusive.

T. 3 N., R. 16 E.,

Sec. 3, that portion lying northeasterly of the pipeline authorized by CACA 14013 and lying northwesterly of the Old Woman Mountains Wilderness Area.

T. 4 N., R. 16 E.,

Secs. 4 and 5, those portions lying southwesterly of the Old Woman Mountains Wilderness Area;

Secs. 6, 7, and 8;

Sec. 9, that portion lying southwesterly of the Old Woman Mountains Wilderness Area;

Sec. 16, that portion lying southwesterly of the Old Woman Mountains Wilderness Area;

Secs. 17 to 20, inclusive;

Secs. 21 and 22, those portions lying southwesterly of the Old Woman Mountains Wilderness Area;

Secs. 27, that portion lying southwesterly of the Old Woman Mountains Wilderness Area;

Sec. 28;

Sec. 29, all except for that portion in railroad rights-of-way containing 17 acres;

Secs. 30, 31, and 32, those portions lying northeasterly of the Cadiz Dunes Wilderness Area;

Sec. 33, that portion lying northeasterly of the Cadiz Dunes Wilderness Area except for that portion contained in railroad rights-of-way containing 14.55 acres;

Sec. 34, that portion lying southwesterly of the Old Woman Mountains Wilderness Area.

T. 5 N., R. 16 E.,

Secs. 6 and 7, those portions lying westerly of the Old Woman Mountains Wilderness Area;

Secs. 18, 19, and 20, those portions lying westerly of the Old Woman Mountains Wilderness Area;

Secs. 30 and 31;

Sec. 32, that portion lying westerly of the Old Woman Mountains Wilderness Area.

The areas described aggregate 331,786 acres, more or less in San Bernardino County.

b. Non-Federal Surface Estate and Federal Mineral Estate:

San Bernardino Meridian

Southern Acquisition Area

T. 2 N., R. 9 E.,

Sec. 26, N½NW¼SW¼SW¼;

Sec. 27, W½SE¼SE¼SE¼;

Sec. 35, N½NE¼NE¼NE¼ and S½SW¼NW¼NE¼.

Eastern Acquisition Area

T. 5 N., R. 12 E.,

Sec. 5, lot 1 of NE¼, W½ of lot 1 of NW¼, lots 5 and 6 inclusive, SE¼NW¼, and S½.

The areas described aggregate 507 acres, more or less in San Bernardino County.

2. The following described non-Federal lands are located within the boundaries of the withdrawal areas. In the event the non-Federal lands or mineral estates return to Federal ownership, these lands and mineral estates will be subject to the terms and conditions of this withdrawal as described above:

(a). Non-Federal Surface and Mineral Estate:

San Bernardino Meridian

Western Acquisition Area

T. 5 N., R. 2 E.,

Sec. 36.

T. 6 N., R. 2 E.,

Sec. 36.

T. 5 N., R. 3 E.,

Sec. 1;

Sec. 36, N½ and SE¼.

T. 6 N., R. 3 E.,

Sec. 1, S½ of lot 4;

Sec. 4, that land described by metes and bounds in Patent No. 04-67-0117 and containing 180.445 acres, more or less;

Secs. 10 and 11, that land described by metes and bounds in Patent No. 04-68-0173 and containing 20.104 acres, more or less;

Sec. 25;

Sec. 31, that land described by metes and bounds in Patent No. 994392 and containing 41.322 acres, more or less;

Sec. 36.

T. 4 N., R. 4 E.,

Sec. 16, N½ and SE¼.

T. 5 N., R. 4 E.,

Sec. 1;

Sec. 12, E½NE¼ and N½SE¼;

Sec. 13, W½NW¼, west 20 rods of the E½NW¼, and W½W½SW¼;

Sec. 17, NE¼;

Sec. 25, lots 1 to 8, inclusive, and E½SE¼.

T. 6 N., R. 4 E.,

Sec. 16, and 25;

Secs. 27 to 28, that land described by metes and bounds in Patent Nos. 24783, 38438, and 38980, and containing 151.25 acres, more or less;

Sec. 36, SE¼.

T. 3 N., R. 5 E.,

Sec. 4, W½NW¼NE¼SW¼, W½SE¼NE¼SW¼, E½NE¼SW¼SW¼, W½NE¼SW¼SW¼, E½SW¼SW¼SW¼, W½SE¼SW¼SW¼, and W½SE¼SE¼SW¼.

T. 4 N., R. 5 E.,

Secs. 1 and 36.

T. 5 N., R. 5 E.,

Sec. 6, SE¼SE¼;

Sec. 7, lot 5;

Secs. 9, 17, 21, 29, and 33.

Southern Acquisition Area

T. 2 N., R. 9 E.,

Sec. 26, N½NW¼SW¼SW¼;

Sec. 27, W½SE¼SE¼SE¼;

Eastern Acquisition Area

T. 4 N., R. 11 E.,

Sec. 13.

T. 5 N., R. 11 E.,

Sec. 36.

T. 4 N., R. 12 E.,

Secs. 9, 13, 16, and 17;

Secs. 18 and 19, that land described by metes and bounds in Patent Nos. 973412 and 968382, and containing 82.31 acres, more or less;

Secs. 22 and 36.

T. 5 N., R. 12 E.,

Secs. 19, 20, 29, and 30, all the lands conveyed by Patent No. 1000678, containing 1,342.40 acres, more or less;

Sec. 16;

Sec. 28, SE¼;

Sec. 36.

T. 4 N., R. 13 E.,

Secs. 5 and 16.

T. 5 N., R. 13 E.,

Sec. 13;

Sec. 21;

Sec. 22, E½;

Secs. 29 and 33;

Sec. 36, SW¼.

T. 3 N., R. 14 E.,

Sec. 36, that portion lying east of the Sheephole Valley Wilderness Area.

T. 4 N., R. 14 E.,

Secs. 1 to 5, inclusive, 9, 13, and 16.

T. 5 N., R. 14 E.,

Secs. 19 to 29, inclusive, and 32 to 36, inclusive.

T. 4 N., R. 15 E.,

Secs. 16 and 17;

Sec. 33, that portion lying northwesterly of the Cadiz Dunes Wilderness Area.

T. 4 N., R. 16 E.,

Sec. 29, that portion contained in railroad rights-of-way containing 17 acres;

Sec. 33, that portion contained in railroad rights-of-way containing 14.55 acres.

T. 5 N., R. 16 E.,

Sec. 29, that portion lying southwesterly of the Old Woman Mountains Wilderness Area.

The areas described aggregate 40,205 acres, more or less, in San Bernardino County.

(b). State of California surface and mineral estate:

San Bernardino Meridian

Western Acquisition Area

T. 4 N., R. 3 E.,

Sec. 1, NE¼SW¼ and S½SW¼;

Sec. 3, SW¼NE¼, S½NW¼, and N½S½;

Sec. 4, N½SE¼.

T. 6 N., R. 3 E.,

Sec. 16.

T. 4 N., R. 4 E.,

Sec. 16, SW¼;

Sec. 19, E½E½;

Sec. 20, S½;

Sec. 28, S½;

Sec. 29, E½.

T. 5 N., R. 5 E.,

Sec. 16.

Southern Acquisition Area

T. 2 N., R. 10 E.,

Sec. 16.

Eastern Acquisition Area

T. 5 N., R. 13 E.,

Sec. 36, N½ and SE¼.

The areas described aggregate 3,745 acres, more or less, in San Bernardino County.

3. The withdrawal made by this order does not alter the applicability of those public land laws governing the use of lands under lease, license, or permit, or governing the disposal of the vegetative resources, to maintain the current status of the lands pending action on an application for legislative withdrawal for military purposes under the Engle Act.

4. This withdrawal will expire in 5 years from the effective date of this order unless, as a result a review conducted before the expiration date pursuant to Section 204(f) of the Federal Land Policy and Management Act of 1976, 43 U.S.C. 1714(f), the Secretary determines that the withdrawal shall be extended.

Dated: September 11, 2012.
Rhea S. Suh,
Assistant Secretary, Policy, Management and Budget.

[FR Doc. 2012-23479 Filed 9-21-12; 8:45 am]

BILLING CODE 3810-FF-P